DEPARTMENT OF HEALTH AND HUMAN SERVICES

Centers for Disease Control and Prevention

[Program Announcement AA095]

Pilot Projects to Expand Existing Birth Defects Surveillance Systems To Include All Fetal Death Data; Notice of Intent To Fund Single Eligibility Award

A. Purpose

The Centers for Disease Control and Prevention (CDC) announces the intent to fund fiscal year (FY) 2005 funds for a cooperative agreement program to:

1. Evaluate the feasibility of expanding a population-based birth defects surveillance system to incorporate data from existing records on fetal deaths;

2. Monitor and report, as feasible, on the occurrence of fetal deaths in the study population;

3. Serve as a registry for etiologic studies of fetal deaths (note that no research studies are planned under this project); and

4. Serve as a resource for education and evaluation of prevention programs that aim to reduce the occurrence of fetal deaths (note that no education or prevention programs are planned under this study).

The Catalog of Federal Domestic Assistance number for this program is 93.283.

B. Eligible Applicant

In 2004, the state of Iowa passed legislation to add stillbirths to the information that the state collects for its birth registries. The Iowa birth defects monitoring program is an active ascertainment system that was established in 1983. The monitoring program currently collects data on fetal deaths related to birth defects, and can be expanded to include all fetal death data. This model program is a center for excellence in birth defects surveillance, the largest case control study on birth defects in the United States.

H.R. Conf. Rep. No. 108-792, at 1162 (2004), references the Iowa Department of Health. Applications may be submitted only by the Iowa Department of Health. No other applications are solicited.

C. Funding

Approximately $400,000 is available in FY 2005 to fund this award. It is expected that the award will begin on or before August 31, 2005, and will be made for a 12-month budget period within a project period of up to one year. Funding estimates may change.

D. Where To Obtain Additional Information

For general comments or questions about this announcement, contact: Technical Information Management, CDC Procurement and Grants Office, 2920 Brandywine Road, Atlanta, GA 30341-4146, Telephone: 770-488-2700.

For technical questions about this program, contact: Stephanie Henry, Project Officer, 1600 Clifton Road, Mailstop E-86, Atlanta, GA 30333, Telephone: (404) 498-3809, E-mail: SHenry@cdc.gov.

Dated: August 22, 2005.
Alan A. Kotch,
Deputy Director, Procurement and Grants Office, Centers for Disease Control and Prevention.

[FR Doc. 05-16993 Filed 8-25-05; 8:45 am]

BILLING CODE 4163-18-P